SURFACE TRANSPORTATION BOARD

[Docket No. FD 36668]

CWW LLC dba Columbia Rail—Lease and Operation Exemption—Port of Benton County, Wash.

CWW LLC dba Columbia Rail (CWW), a Class III rail carrier, has filed a verified notice of exemption pursuant to 49 CFR 1150.41 to lease and operate 10.89 miles of railroad line between milepost 18.84 at Richland Junction and milepost 29.73 at Richland, Wash. (the Line), owned by the Port of Benton County, Wash. (the Port).¹

¹ CWW also will lease and operate various sidings and connected spur tracks, such that the rail property leased and operated will total approximately 16 track miles.

According to the verified notice, the Port acquired the Line from the U.S. Department of Energy in 1998. CWW states that the Line is also operated by BNSF Railway Company (BNSF) and Union Pacific Railroad Company (UP). The verified notice further states that the operating rights of Tri-City Railroad Company, LLC (Tri-City), which had also operated over the Line since 2002, were discontinued in 2019. See Port of Benton County—Adverse Discontinuance of Rail Service—Tri-City Railroad, AB 1270 (STB served Oct. 31, 2019).² According to the verified notice, the Port and CWW have entered into a non-exclusive lease agreement for CWW to operate on the Line.

² CWW styled its verified notice as a change in operator exemption. However, the proposed transaction is more akin to a lease and operation exemption, because CWW is seeking authority to become an additional carrier on the Line but is not contemporaneously replacing another common carrier.

CWW certifies that the transaction involves no provision or agreement that would limit interchange with a third party connecting carrier and that no interchange commitments are contemplated. CWW certifies that its projected annual revenues would not exceed $5 million and will not result in the creation of a Class II or Class I rail carrier.

The transaction may be consummated on or after March 8, 2023, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions for stay must be filed no later than March 1, 2023 (at least seven days before the exemption becomes effective).

All pleadings, referring to Docket No. FD 36668, must be filed with the Surface Transportation Board either via e-filing on the Board's website or in writing addressed to 395 E Street SW, Washington, DC 20423-0001. In addition, a copy of each pleading must be served on CWW's representative, James H. M. Savage, 22 Rockingham Court, Germantown, MD 20874.

According to CWW, this action is categorically excluded from environmental review under 49 CFR 1105.6(c) and from historic preservation reporting requirements under 49 CFR 1105.8(b).

Board decisions and notices are available at www.stb.gov.

Decided: February 16, 2023.
By the Board, Mai T. Dinh, Director, Office of Proceedings.
Jeffrey Herzig,
Clearance Clerk.

[FR Doc. 2023-03664 Filed 2-21-23; 8:45 am]

BILLING CODE 4915-01-P